DEPARTMENT OF TRANSPORTATION

Federal Aviation Administration

14 CFR Part 39

[Docket No. FAA-2005-20135; Directorate Identifier 2003-NM-231-AD]

RIN 2120-AA64

Airworthiness Directives; McDonnell Douglas Model DC-8-33 and -43 Airplanes; Model DC-8F-54 and DC-8F-55 Airplanes; and Model DC-8-50, -60, -60F, -70, and -70F Series Airplanes

AGENCY: Federal Aviation Administration (FAA), Department of Transportation (DOT).

ACTION: Notice of proposed rulemaking (NPRM).

SUMMARY: The FAA proposes to supersede an existing airworthiness directive (AD) for certain McDonnell Douglas series airplanes. That AD currently requires repetitive inspections of the electrical connectors of the explosive cartridge wiring of the engine fire extinguisher containers to verify if the identification number labels are installed and legible; repetitive electrical tests of all explosive cartridge wiring of the engine fire extinguisher containers to verify proper installation and function; and corrective actions if necessary. This proposed AD would also require an inspection of the emergency shut off wire assembly; installation of lanyards on the electrical connectors for the engine fire extinguishing agent containers and for the auxiliary power unit fire extinguishing agent containers if applicable; and related investigative/corrective actions, as applicable. This proposed AD is prompted by reports of cross-wired electrical connectors of the engine fire extinguishing agent containers. We are proposing this AD to detect and correct cross-wired electrical connectors of the fire extinguishing system, which could release fire extinguishing agent into the incorrect engine nacelle in the event of an engine fire.

DATES: We must receive comments on this proposed AD by March 14, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street SW., room PL-401, on the plaza level of the Nassif Building, Washington, DC. This docket number is FAA-2005-20135; the directorate identifier for this docket is 2003-NM-231-AD.

FOR FURTHER INFORMATION CONTACT: William S. Bond, Aerospace Engineer, Propulsion Branch, ANM-140L, FAA, Los Angeles Aircraft Certification Office, 3960 Paramount Boulevard, Lakewood, California 90712-4137; telephone (562) 627-5253; fax (562) 627-5210.

SUPPLEMENTARY INFORMATION:

Comments Invited

We invite you to submit any relevant written data, views, or arguments regarding this proposed AD. Send your comments to an address listed under ADDRESSES. Include “Docket No. FAA-2005-20135; Directorate Identifier 2003-NM-231-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On November 29, 2001, we issued AD 2001-25-01, amendment 39-12553 (66 FR 63157, December 5, 2001), for certain McDonnell Douglas Model DC-8-33, -43, -51, -52, -53, and -55 series airplanes; Model DC-8F-54 and -55 series airplanes; and Model DC-8-61, -61F, -62, -62F, -63, -63F, -71, -71F, -72, -72F, -73, and -73F series airplanes airplanes. That AD requires repetitive inspections of the electrical connectors of the explosive cartridge wiring of the engine fire extinguisher containers to verify if the identification number labels are installed and legible; repetitive electrical tests of all explosive cartridge wiring of the engine fire extinguisher containers to verify proper installation and function; and corrective actions if necessary. That AD was prompted by reports of electrical connectors of the engine fire extinguishing agent containers being cross-wired on certain McDonnell Douglas DC-8 series airplanes. We issued that AD to detect and correct cross-wired electrical connectors of the fire extinguishing system, which could release fire extinguishing agent into the incorrect engine nacelle in the event of an engine fire.

Actions Since Existing AD Was Issued

The preamble to AD 2001-25-01 explains that we consider the requirements “interim action” and were considering further rulemaking. We now have determined that further rulemaking is indeed necessary, and this proposed AD follows from that determination.

Relevant Service Information

We have reviewed Boeing Service Bulletin DC8-26-047, Revision 1, dated September 4, 2003. The service bulletin describes the following procedures:

1. Doing a general visual inspection of the emergency shut off wire assembly to determine if the length of wire harness AAG at P1-510 can be connected to R5-74 and to determine if the length of wire harness ABG at P1-511 can be connected to R5-73; and corrective action. The corrective action includes shortening wire harness AAG at P1-510, if cross connection is possible.

2. Installing lanyards on the electrical connectors for the engine fire extinguishing agent containers in the left and right wing front spar; and related investigative/corrective actions. The related investigative actions include inspecting the explosive cartridge electrical connectors for the engine fire extinguisher containers to determine if the identification number labels are installed and legible; and testing the installation of the engine fire extinguisher containers. The corrective actions include installing any missing label or replacing any illegible label with a new label, as applicable; and troubleshooting and repairing the wiring of the fire extinguishing (“firex”) discharge system if any cockpit warning lamp fails to light during any test of the engine fire extinguisher containers.

3. For airplanes equipped with an auxiliary power unit (APU) installation in the forward cargo compartment at station Y=640.000, installing lanyards on the electrical connectors for the APU fire extinguishing agent containers and related investigative/corrective actions. The related investigative action includes inspecting the explosive cartridge electrical connectors for the APU fire extinguisher containers to determine if the identification number labels are installed and legible. The corrective action includes installing any missing or replacing any illegible identification label with a new label, as applicable, on the explosive cartridge electrical connectors for the APU fire extinguisher containers. We have determined that accomplishment of the actions specified in the service information will adequately address the unsafe condition.

FAA's Determination and Requirements of the Proposed AD

We have evaluated all pertinent information and identified an unsafe condition that is likely to exist or develop on other products of this same type design. Therefore, we are proposing this AD, which would supersede AD 2001-25-01. This proposed AD would continue to require repetitive inspections of the electrical connectors of the explosive cartridge wiring of the engine fire extinguisher containers to verify if the identification number labels are installed and legible; repetitive electrical tests of all explosive cartridge wiring of the engine fire extinguisher containers to verify proper installation and function; and corrective actions if necessary. This proposed AD would also require an inspection of the emergency shut off wire assembly; installation of lanyards on the electrical connectors for the engine fire extinguishing agent containers and for the APU fire extinguishing agent containers if applicable; and related investigative/corrective actions, as applicable. Accomplishment of these new actions would terminate the requirement for repetitive inspections and electrical tests. This proposed AD would require you to use the service information described previously to perform these actions, except as discussed under “Difference Between the Proposed AD and Service Bulletin.”

Difference Between the Proposed AD and Service Bulletin

Operators should note that, although the service bulletin recommends accomplishing the service bulletin “at a scheduled maintenance period when manpower, materials, and facilities are available,” we have determined that such an imprecise compliance time would not address the identified unsafe condition in a timely manner. In developing an appropriate compliance time for this proposed AD, we considered the degree of urgency associated with the subject unsafe condition, the average utilization of the affected fleet, and the time necessary to perform the modification (between 5 to 6 hours). In light of all of these factors, we find that an 18-month compliance time represents an appropriate interval of time for affected airplanes to continue to operate without compromising safety. We have coordinated this finding with the manufacturer and they concur.

Clarification Between the Proposed AD and Service Bulletin

Operators should note that, although the effectivity of the service bulletin includes McDonnell Douglas Model DC-8-54 airplanes, we have not included it in the applicability of the proposed AD because it is not listed on Type Certificate Data Sheet (TCDS) No. 4A25, Revision 37, or any other TCDS. In addition, the manufacturer has confirmed that its listing in the effectivity of the service bulletin is a typographical error. The manufacturer also indicated that Model DC-8F-54 and Model DC-8F-55 airplanes were misidentified in the effectivity of the service bulletin as Model DC-8-54F and Model DC-8-55F, respectively. The applicability of this AD references the correct model designations for these airplanes.

Change to Existing AD

This proposed AD would retain all requirements of AD 2001-25-01. Since AD 2001-25-01 was issued, the AD format has been revised, and certain paragraphs have been rearranged. As a result, the corresponding paragraph identifiers have changed in this proposed AD, as listed in the following table:

Revised Paragraph Identifiers
Requirement in AD 2001-25-01 | Corresponding requirement in this proposed AD
paragraph (a) | paragraph (f).

Costs of Compliance

This proposed AD would affect about 233 worldwide airplanes. The following table provides the estimated costs, using an average labor rate of $65 per hour, for U.S. operators to comply with this proposed AD.

Estimated Costs
Action | Work hours | Parts | Cost per airplane | Number of U.S.-registered airplanes | Fleet cost
Inspection of the electrical connectors of the explosive cartridge wiring and electrical test of all explosive cartridge wiring (required by AD 2001-25-01) | 3 | $0 | $195, per inspection/testing cycle | 177 | $34,515
General visual inspection of the emergency shut off wire assembly (new proposed action) | 1 | 0 | 65, per inspection cycle | 177 | 11,505
Installation of lanyards on electrical connectors for engine fire extinguishing agent containers (new proposed action) | 4 | 58 (For engine firex) | 318 | 177 | 56,268
Installation of lanyards on electrical connectors for APU fire extinguishing agent containers if applicable (new proposed action) | 1 | 52 (For APU firex) | 117 | 177 | 20,709

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12553 (66 FR 63157, December 5, 2001) and adding the following new airworthiness directive (AD):

McDonnell Douglas: Docket No. FAA-2005-20135; Directorate Identifier 2003-NM-231-AD.

Comments Due Date

(a) The Federal Aviation Administration must receive comments on this airworthiness directive (AD) action by March 14, 2005.

Affected ADs

(b) This AD supersedes AD 2001-25-01, amendment 39-12553. Accomplishment of paragraph (g) and (h) of this AD terminates certain requirements of AD 2001-25-01, amendment 39-12553.

Applicability

(c) This AD applies to McDonnell Douglas Model DC-8-33, DC-8-43, DC-8-51, DC-8-52, DC-8-53, DC-8F-54, DC-8-55, DC-8F-55, DC-8-61, DC-8-61F, DC-8-62, DC-8-62F, DC-8-63, DC-8-63F, DC-8-71, DC-8-71F, DC-8-72, DC-8-72F, DC-8-73, and DC-8-73F airplanes, certificated in any category; as listed in Boeing Service Bulletin DC8-26-047, Revision 1, dated September 4, 2003.

Unsafe Condition

(d) This AD was prompted by reports of cross-wired electrical connectors of the engine fire extinguishing agent containers. We are issuing this AD to detect and correct cross-wired electrical connectors of the fire extinguishing system, which could release fire extinguishing agent into the incorrect engine nacelle in the event of an engine fire.

Compliance

(e) You are responsible for having the actions required by this AD performed within the compliance times specified, unless the actions have already been done.

Requirements of AD 2001-25-01, Amendment 39-12553

Repetitive Inspections and Tests, and Corrective Action(s), If Necessary

(f) Within 30 days after December 20, 2001 (the effective date of AD 2001-25-01, amendment 39-12553), do the action(s) specified in paragraphs (f)(1) and (f)(2) of this AD, in accordance with Boeing Alert Service Bulletin DC8-26A046, dated November 7, 2001.

(1) Do an inspection of the electrical connectors of the explosive cartridge wiring of the engine fire extinguisher containers to verify if the identification number labels are installed and legible. If any identification number label is missing or is not legible, before further flight, install a label or replace the label with a new label, as applicable. Repeat the inspection after each maintenance action for the Firex Discharge system.

(2) Do an electrical test of all explosive cartridge wiring of the engine fire extinguisher containers to verify proper installation and function, using the cockpit warning lamps. If the lamp fails to illuminate, before further flight, troubleshoot and repair the wiring of the Firex Discharge system. Repeat the test after each maintenance action for the Firex Discharge system.

Note 1: Inspections, tests, and corrective actions, if necessary, done per Boeing BOECOM M-7200-01-02632, dated November 5, 2001, before December 20, 2001 (the effective date of AD 2001-25-01, amendment 39-12553), are considered acceptable for compliance with the requirements of paragraph (f) of this AD.

New Requirements of This AD

Inspection and Installation

(g) Within 18 months of the effective date of this AD, do a general visual inspection of the emergency shut off wire assembly to determine if the length of wire harness AAG at P1-510 can be connected to R5-74 and to determine if the length of wire harness ABG at P1-511 can be connected to R5-73; and, before further flight, do the corrective action, as applicable; by accomplishing all of the actions specified in paragraph B.1.b. of the Accomplishment Instructions of Boeing Service Bulletin DC8-26-047, Revision 1, dated September 4, 2003.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(h) Within 18 months of the effective date of this AD, install lanyards on the electrical connectors for the engine fire extinguishing agent containers in the left and right wing front spar; and, before further flight, do all the related investigative/corrective actions, as applicable; by accomplishing all of the actions specified in paragraph B.1.c. of the Accomplishment Instructions of Boeing Service Bulletin DC8-26-047, Revision 1, dated September 4, 2003.

Installation If Applicable

(i) For airplanes equipped with an auxiliary power unit (APU) installation in the forward cargo compartment at station Y=640.000: Within 18 months of the effective date of this AD, install lanyards on the electrical connectors for the APU fire extinguishing agent containers; and, before further flight, do all the related investigative/corrective actions, as applicable; by accomplishing all of the actions specified in paragraph B.2. of the Accomplishment Instructions of Boeing Service Bulletin DC8-26-047, Revision 1, dated September 4, 2003.

Terminating Action

(j) Accomplishment of the actions specified in paragraphs (g) and (h) of this AD terminates the repetitive inspections and electrical tests required by paragraph (f) of this AD.

Credit for Previous Service Bulletin

(k) Actions done before the effective date of this AD in accordance with Boeing Service Bulletin DC8-26-047, dated April 2, 2003, is acceptable for compliance with the corresponding requirements in paragraphs (g), (h), and (i) of this AD.

Alternative Methods of Compliance (AMOCs)

(l) The Manager, Los Angeles Aircraft Certification Office, FAA, has the authority to approve AMOCs for this AD, if requested using the procedures found in 14 CFR 39.19.

Issued in Renton, Washington, on January 18, 2005.
Ali Bahrami,
Manager, Transport Airplane Directorate, Aircraft Certification Service.

[FR Doc. 05-1588 Filed 1-27-05; 8:45 am]

BILLING CODE 4910-13-P